DEPARTMENT OF COMMERCE

Foreign-Trade Zones Board

(Docket 17-2009)

Foreign-Trade Zone 75—Phoenix, Arizona, Application for Expansion

An application has been submitted to the Foreign-Trade Zones Board (the Board) by the City of Phoenix, Arizona, grantee of FTZ 75, requesting authority to expand the zone project within the Phoenix Customs and Border Protection port of entry. The application was submitted pursuant to the provisions of the Foreign-Trade Zones Act, as amended (19 U.S.C. 81a-81u), and the regulations of the Board (15 CFR part 400). It was formally filed on April 23, 2009.

FTZ 75 was approved on March 25, 1982 (Board Order 185, 47 FR 14931, 4/7/82) and expanded on July 2, 1993 (Board Order 647, 58 FR 37907, 7/14/93) and on February 27, 2008 (Board Order 1545, 73 FR 13531, 3/13/08). The zone project consists of four sites (448 acres total) in Phoenix: Site 1 (338 acres) -- within the 550-acre Phoenix Sky Harbor Center and Sky Harbor International Airport's air cargo terminal located at Papago Freeway (Interstate 10) and Buckeye Road; Site 2 (18 acres) -- within the central southwestern portion of the CC&F South Valley Industrial Center located near the intersection of 7th Street and Victory Street; Site 3 (74 acres) -- Riverside Industrial Center located at 4747 West Buckeye Road; and, Site 4 (18 acres) -- Santa Fe Business Park located between 47th Avenue and 45th Avenue.

The applicant is now requesting authority to expand the general-purpose zone to include the jet fuel storage and distribution system at and adjacent to the Phoenix Sky Harbor International Airport in Phoenix, Arizona (Proposed Site 5). The system (32.5 acres total) includes the off-airport terminal (7 tanks, 7.5 acres), airport terminal (5 tanks, 3.5 acres), subsurface pipeline (14.5 acres) and airport hydrant fueling system (7 acres). These facilities consist primarily of storage tanks, pipelines, pumps, valves, filters, meters and related equipment. The system is operated by Airport Fueling Facilities Corporation which is a consortium of airlines that service the airport. No specific manufacturing authority is being requested at this time. Such requests would be made to the Board on a case-by-case basis.

In accordance with the Board's regulations, Camille Evans of the FTZ staff is designated examiner to investigate the application and report to the Board.

Public comment is invited from interested parties. Submissions (original and 3 copies) shall be addressed to the Board's Executive Secretary at the address below. The closing period for their receipt is [June 29, 2009]. Rebuttal comments in response to material submitted during the foregoing period may be submitted during the subsequent 15-day period to [July 14, 2009].

A copy of the application will be available for public inspection at the Office of the Executive Secretary, Foreign-Trade Zones Board, Room 2111, U.S. Department of Commerce, 1401 Constitution Avenue NW, Washington, DC 20230-0002, and in the “Reading Room” section of the Board's website, which is accessible via www.trade.gov/ftz. For further information, contact Camille Evans at Camille_Evans@ita.doc.gov or (202) 482-2350.

Dated: April 23, 2009.
Andrew McGilvray,
Executive Secretary.

[FR Doc. E9-10002 Filed 4-29-09; 8:45 am]

BILLING CODE 3510-DS-S